DEPARTMENT OF LABOR

Employment and Training Administration

[TA-W-38,243]

COLOR-TEX International, North Carolina Finishing Division, Salisbury, NC; Notice of Affirmative Determination Regarding Application for Reconsideration

By letter of February 4, 2001, a petition requested administrative reconsideration of the Department of Labor's Negative Determination Regarding Eligibility to Apply for Worker Adjustment Assistance applicable to workers of the subject firm. The negative determination was signed on January 12, 2001, and published in the Federal Register on February 8, 2001 (66 FR 9599).

The Department's review of the application shows that the information provided supports additional survey of the subject firm customers.

Conclusion

After careful review of the application, I conclude that the claim is of sufficient weight to justify reconsideration of the Department of Labor's prior decision. The application is, therefore, granted.

Signed at Washington, DC this 16th day of April 2001.
Linda G. Poole,
Certifying Officer, Division of Trade Adjustment Assistance.

[FR Doc. 01-11106 Filed 5-2-01; 8:45 am]

BILLING CODE 4510-30-M